DEPARTMENT OF DEFENSE

Office of the Secretary

[Transmittal No. 23-0R]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 23-0R.

Dated: November 6, 2024.
Stephanie J. Bost,
Alternate OSD Federal Register Liaison Officer, Department of Defense.

BILLING CODE 6001-FR-P

BILLING CODE 6001-FR-C

Transmittal No. 23-0R

REPORT OF ENHANCEMENT OR UPGRADE OF SENSITIVITY OF TECHNOLOGY OR CAPABILITY (SEC. 36(B)(5)(C), AECA)

(i) Prospective Purchaser: Government of the United Kingdom

(ii) Sec. 36(b)(1), AECA Transmittal No.: 20-51

Date: August 26, 2020

Military Department: Army

(iii) Description: On August 26, 2020, Congress was notified by Congressional certification transmittal number 20-51, of the possible sale, under Section 36(b)(1) of the Arms Export Control Act, of three hundred ninety-five (395) AGM-114R2 Hellfire missiles. Also included was technical assistance, publications, integration support, and other related elements of logistics and program support. The estimated total cost was $46 million. Major Defense Equipment (MDE) constituted $42 million of this total.

This transmittal notifies the inclusion of an additional up to one thousand six hundred five (1,605) AGM-114R2 Hellfire missiles (MDE). Also included are publications, integrated support, and technical assistance. The estimated value of the new MDE items is $216 million, and the estimated value of the new non-MDE items is $20 million. The revised estimated total MDE value is $258 million, and the revised total case value is $282 million.

(iv) Significance: The proposed sale will improve the United Kingdom's capability to meet current and future threats by replacing unserviceable and expiring missiles to allow continued efficient operations alongside U.S. forces.

(v) Justification: This proposed sale will support the foreign policy goals and national security objectives of the United States by improving the security of a NATO Ally that is a force for political stability and economic progress in Europe.

(vi) Sensitivity of Technology: The Sensitivity of Technology Statement contained in the original notification applies to items reported here.

The highest level of classification of defense articles, components, and services included in this potential sale is SECRET.

(vii) Date Report Delivered to Congress: October 23, 2023

[FR Doc. 2024-26156 Filed 11-8-24; 8:45 am]

BILLING CODE 6001-FR-P